Proclamation 9172 of September 19, 2014

National Historically Black Colleges and Universities Week, 2014

By the President of the United States of America

A Proclamation

For generations, the promise of an education has been a beacon of hope for millions of Americans seeking a better life. At a time when it was deemed illegal for African Americans to learn to read or write, brave men and women took great risks to learn these skills in secret. And after the Civil War, determined individuals made extraordinary sacrifices to establish the institutions we know today as Historically Black Colleges and Universities (HBCUs). These schools waged a war against illiteracy and ignorance and offered a newly free people the opportunity to write their own chapter in the American story. This week, we honor their important legacy and renew our commitment to their spirit: that every person deserves a chance to succeed.

Over more than 150 years, HBCUs have provided students with the tools to meet the challenges of a changing world. These institutions are hubs of opportunity that lift up Americans and instill in their students a sense of who they are and what they can become. Their campuses are engines of economic growth and community service and proven ladders of intergenerational advancement. Across our country, their graduates strengthen our communities, lead our industries, and serve our Nation. And their successes inspire the next cohort of graduates and leaders.

HBCUs have forged pathways to help students overcome barriers to equal opportunity, but more work remains to ensure that a world-class education is within the reach of every person willing to work for it. That is why my Administration is fighting to make college more affordable with larger grants and low-interest loans. We are investing hundreds of millions of dollars in HBCUs, and because half of all students at these schools are the first in their family to attend college, we are supporting programs that help these first-generation scholars succeed. Our goal is to have the highest proportion of college graduates in the world by 2020, and investing in these institutions and their students will play a vital part in meeting it.

Today, because of the work of bold leaders—and of parents and grandparents who never dreamed of going to college themselves but who saved and sacrificed so their children could—more young people have the chance to achieve their greatest potential and full measure of happiness. During National Historically Black Colleges and Universities Week, we recognize the ways these schools have made our Nation more just and we continue our work to make higher education accessible to every child in America.

NOW, THEREFORE, I, BARACK OBAMA, President of the United States of America, by virtue of the authority vested in me by the Constitution and the laws of the United States, do hereby proclaim September 21 through September 27, 2014, as National Historically Black Colleges and Universities Week. I call upon educators, public officials, professional organizations, corporations, and all Americans to observe this week with appropriate programs, ceremonies, and activities that acknowledge the countless contributions these institutions and their alumni have made to our country.

IN WITNESS WHEREOF, I have hereunto set my hand this nineteenth day of September, in the year of our Lord two thousand fourteen, and of the Independence of the United States of America the two hundred and thirty-ninth.

[FR Doc. 2014-22927

Filed 9-23-14; 11:15 am]

Billing code 3295-F4